INTERNATIONAL TRADE COMMISSION

[Investigations Nos. 731-TA-1048 and 1050-1053 (Final)]

Electrolytic Manganese Dioxide From Australia, Greece, Ireland, Japan, and South Africa

AGENCY: International Trade Commission.

ACTION: Termination of investigations.

SUMMARY: On March 2, 2004, the Commission received notice from the Department of Commerce stating that, having received a letter from petitioner in the subject investigations (Kerr-McGee Chemical LLC) withdrawing its petitions, Commerce was terminating its antidumping investigations on electrolytic manganese dioxide from Australia, Greece, Ireland, Japan, and South Africa. Accordingly, pursuant to section 207.40(a) of the Commission's Rules of Practice and Procedure (19 CFR 207.40(a)), the antidumping investigations concerning electrolytic manganese dioxide from Australia, Greece, Ireland, Japan, and South Africa (investigations Nos. 731-TA-1048 and 1050-1053 (Final)) are terminated.

EFFECTIVE DATE: March 2, 2004.

FOR FURTHER INFORMATION CONTACT: George Deyman (202-205-3197), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: These investigations are being terminated under authority of title VII of the Tariff Act of 1930; this notice is published pursuant to section 207.40 of the Commission's rules (19 CFR 207.40).

By order of the Commission.
Issued: March 3, 2004.
Marilyn R. Abbott,
Secretary to the Commission.

[FR Doc. 04-5226 Filed 3-8-04; 8:45 am]

BILLING CODE 7020-02-P